ENVIRONMENTAL PROTECTION AGENCY

40 CFR Part 52

[EPA-R03-OAR-2012-0610; FRL-9741-7]

Approval and Promulgation of Air Quality Implementation Plans; Maryland; Reasonably Available Control Technology Requirements for Volatile Organic Compounds

AGENCY: Environmental Protection Agency (EPA).

ACTION: Proposed rule.

SUMMARY: EPA is proposing to approve State Implementation Plan (SIP) revisions submitted by the State of Maryland. These revisions pertain to the adoption of various test methods, calculations methods, work practice standards and exemptions which make Maryland Department of the Environment (MDE) regulations more consistent with the EPA's Control Techniques Guidelines (CTGs) for seven source categories. These categories are: Paper, film, and foil coatings; industrial cleaning solvents; miscellaneous metal and plastic parts coatings; large appliance coatings; offset lithographic printing and letterpress printing; flat wood paneling coatings and flexible package printing. This action is being taken under the Clean Air Act (CAA).

DATES: Written comments must be received on or before November 23, 2012.

ADDRESSES: Submit your comments, identified by Docket ID Number EPA-R03-OAR-2012-0610 by one of the following methods:

A. www.regulations.gov. Follow the on-line instructions for submitting comments.

B. Email: mastro.donna@epa.gov.

C. Mail: EPA-R03-OAR-2012-0610, Donna Mastro, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0610. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Jacqueline Lewis, (215) 814-2037, or by email at lewis.jacqueline@epa.gov.

SUPPLEMENTARY INFORMATION: Throughout this document, whenever “we,” “us,” or “our” is used, we mean EPA.

I. Background

The Clean Air Act (CAA) section 172(c)(1) provides that SIPs for nonattainment areas must include “reasonably available control measures” (RACM), including “reasonably available control technology ” (RACT), for sources of emissions. Section 182(b)(2)(A) of the CAA provides that for certain nonattainment areas, states must revise their SIPs to include RACT for sources of volatile organic compounds (VOC) emissions covered by a CTG document issued after November 15, 1990 and prior to the area's date of attainment.

EPA develops CTGs as guidance on control requirements for specific source categories. The CTGs are intended to provide state and local air pollution control authorities information that should assist them in determining RACT for VOC. The State of Maryland through MDE submitted revisions to its SIP to address the following RACT source categories: (1) Paper, film, and foil coatings; (2) industrial cleaning solvents; (3) miscellaneous metal and plastic parts coatings; (4) large appliance coatings; (5) offset lithographic printing and letterpress printing; (6) flat wood paneling coatings; and (7) flexible package printing.

In 1977, 1978, 1993 and 1994, EPA developed CTGs for all the source categories listed above, and in 2006, 2007 and 2008, EPA developed new CTGs for these source categories after conducting a review of existing state and local VOC emission reduction approaches for these industries, reviewing the original CTGs, and taking into account the information that has become available since original development. EPA's new CTGs are entitled Control Techniques Guidelines for Paper, Film, and Foil Coatings (EPA 453/R-07-003, September 2007), Control Techniques Guidelines: Industrial Cleaning Solvents (EPA 453/R-06-001, September 2006), Control Techniques Guidelines for Miscellaneous Metal and Plastic Parts Coatings (EPA-453/R-08-003, September 2008), Control Techniques Guidelines for Large Appliance Coatings (EPA 453/R-07-004, September 2007), Control Techniques Guidelines for Offset Lithographic Printing and Letterpress Printing (EPA-453/R-06-002, September 2006), Control Techniques Guidelines for Flat Wood Paneling Coatings (EPA 453/R-06-004, September 2006), and Control Techniques Guidelines for Flexible Package Printing (EPA 453/R-06-003, September 2006). These new CTGs include new general requirements along with testing, work practice, and recordkeeping requirements.

II. Summary of SIP Revision

On April 5, 2012, EPA received a SIP revision from MDE which addressed sources of VOC emissions covered by EPA's CTGs for the seven source categories identified above and which includes amendments to COMAR 26.11.01.04 and COMAR 26.11.19.02.

A. Amendments to Regulation .04 Testing and Monitoring Under COMAR 26.11.01 General Administrative Provisions

The new amendments to COMAR 26.11.01.04C provide updated provisions for the test methods that are referenced under COMAR 26.11.19.02D. These amendments incorporate by reference federal methods under Section C (Emissions Test Methods) and include: (1) 40 CFR Part 60, Appendix A, as amended; (2) MDE's Technical Memorandum 91-01, “Test Methods and Equipment Specifications for Stationary Sources,” January 1991, as amended through Supplement 3 (October 1, 1997); and (3) for course particulate matter (PM10) stack tests (a) Test Methods 201 A and 202 in 40 CFR Part 51, Appendix M, as amended; (b) Test Method 5 (40 CFR Part 60, Appendix A, as amended) and Test Method 202 in 40 CFR Part 51, Appendix M, as amended; (c) Test Method 5 (40 CFR Part 60, Appendix A, as amended) using front half and back half procedure; (d) EPA Conditional Test Method 39 as a substitute for Test Method 202 in 40 CFR Part 51, Appendix M, as amended; or (e) Alternative test methods for PM10 if they are approved by MDE and the EPA.

B. Amendments to Regulation .02 Applicability, Determining Compliance, Reporting and General Requirements Under COMAR 26.11.19 Volatile Organic Compounds from Specific Processes

The amendments to COMAR 26.11.19.02(D), (E), and (I) apply to sources covered by the CTG categories and other regulations covered under COMAR 26.11.19 involving testing, cleaning solutions, solvents, or degreasing materials. These amendments make the requirements more consistent with EPA's CTG guidance for alternative test methods, calculation methods, and work practice standards.

COMAR 26.11.19.02(D) (Test Methods) establishes methods, procedures and requirements for the alternative testing of control devices. The revision amends COMAR 26.11.19.02(D)(2) by requiring sources that use air pollution control equipment to comply with the requirements of COMAR 26.11.19 make the determination in accordance with COMAR 26.11.01.04(C). The revision also adds COMAR 26.11.19.02(D)(3) requiring MDE and EPA approval if a source chooses to determine compliance using alternative test methods.

COMAR 26.11.19.02(E) (Computations) establishes methods, procedures and requirements for calculations needed to determine compliance with regulations covered under COMAR 26.11.19. The addition of COMAR 26.11.19.02(E)(3) establishes the method required to determine composite vapor pressure of solvent cleaning material. The addition of COMAR 26.11.19.02(E)(4) establishes the method to determine mass VOC to mass solids applied for coatings, adhesives, or inks. The addition of COMAR 26.11.19.02(E)(5) establishes the method to determine the weight of VOC in units of weight VOC per weight coating applied for coatings, adhesives, or inks.

The amendment to COMAR 26.11.19.02(G) (Control of Major Stationary Sources of Volatile Organic Compounds) exempts additional VOC RACT regulations that had not been adopted since 1991. The regulation now exempts major stationary sources that are subject to COMAR 26.11.10, COMAR 26.11.11, COMAR 26.11.13, COMAR 26.11.14, and COMAR 26.11.19.03-.33.

COMAR 26.11.19.02(I) (Good Operating Practices, Equipment Cleanup, and VOC Storage) adds additional work practice requirements for the handling of cleaning material. This revision adds three additional good operating practice requirements to the previous five requirements under COMAR 26.11.19.02(I)(2)(b). They include minimizing spills of VOC-containing cleaning materials, minimizing VOC emissions from cleaning of storage, mixing, and conveying equipment and also requiring closed containers or pipelines be used to transport VOC-containing cleaning materials from one location to another.

A detailed summary of EPA's review and rationale for proposing to approve this SIP revision may be found in the Technical Support Document (TSD) for this action which is available on line at http://www.regulations.gov, Docket number EPA-R03-OAR-2012-0610.

III. Proposed Action

EPA is proposing to approve Maryland's SIP revision submitted April 5, 2012, amending Regulation .04 Testing and Monitoring under COMAR 26.11.01 General Administrative Provisions and Regulation .02 Applicability, Determining Compliance, Reporting and General Requirements under COMAR 26.11.19 Volatile Organic Compounds from Specific Processes for adoption of various test methods, calculations methods, work practice standards, and exemptions in accordance with CTGs for VOC RACT. EPA is soliciting public comments on the issues discussed in this document. These comments will be considered before taking final action.

IV. Statutory and Executive Order

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule concerning Maryland's adoption of various test methods, calculations methods, work practice standards and exemptions in accordance with CTGs for VOC RACT does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Ozone, Reporting and recordkeeping requirements, Volatile organic compounds.

Authority: 42 U.S.C. 7401 et seq.

Dated: October 02, 2012.
W.C. Early,
Acting Regional Administrator, Region III.

[FR Doc. 2012-25556 Filed 10-22-12; 8:45 am]

BILLING CODE 6560-50-P